ENVIRONMENTAL PROTECTION AGENCY

[FRL-9315-6]

Science Advisory Board Staff Office Notification of a Public Teleconference of the Clean Air Scientific Advisory Committee (CASAC) Ozone Review Panel

AGENCY: Environmental Protection Agency (EPA).

ACTION: Notice.

SUMMARY: The Environmental Protection Agency (EPA or Agency) Science Advisory Board (SAB) Staff Office announces a public teleconference on July 6, 2011 of the Clean Air Scientific Advisory Committee (CASAC) Ozone Review Panel to discuss its draft review of EPA's Integrated Science Assessment for Ozone and Related Photochemical Oxidants (March 2011 Draft).

DATES: The CASAC Ozone Review Panel teleconference will be held on Wednesday, July 6, 2011 from 10 a.m. to 1 p.m. (Eastern Time).

ADDRESSES: The public teleconference will take place by telephone only.

FOR FURTHER INFORMATION CONTACT: Any member of the public who wants further information concerning the July 6, 2011 public teleconference may contact Dr. Holly Stallworth, Designated Federal Officer (DFO), EPA Science Advisory Board (1400R), U.S. Environmental Protection Agency, 1300 Pennsylvania Avenue, NW., Washington, DC 20004; via telephone/voice mail (202) 546-2073; fax (202) 565-2098; or e-mail at stallworth.holly@epa.gov. General information concerning the CASAC can be found on the EPA Web site at http://www.epa.gov/casac.

SUPPLEMENTARY INFORMATION: Background: Pursuant to the Federal Advisory Committee Act (FACA), Public Law 92-463 5 U.S.C., App. 2, notice is hereby given that the CASAC Ozone NAAQS Review Panel will hold a public teleconference to discuss its draft letter reviewing EPA's first external review draft of the Integrated Science Assessment for Ozone and Related Photochemical Oxidants (March 2011) (http://cfpub.epa.gov/ncea/isa/recordisplay.cfm?deid=217463).

The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC Panel will comply with the provisions of FACA and all appropriate SAB Staff Office procedural policies. Section 109(d)(1) of the CAA requires that the Agency periodically review and revise, as appropriate, the air quality criteria and the NAAQS for the six “criteria” air pollutants, including Ozone.

The Ozone Review Panel developed its draft report after holding a face-to-face meeting on May 19-20, 2011 (as noticed in 76 FR 23809-23810) to review EPA's draft Integrated Science Assessment. Information about this review activity may be found on the CASAC Web site at http://www.epa.gov/casac/.

Technical Contacts: Any technical questions concerning the Integrated Science Assessment for Ozone and Related Photochemical Oxidants (March 2011) may be directed to Dr. James Brown (brown.james@epa.gov).

Availability of Meeting Materials: Prior to the meeting, the draft letter, agenda, public comments and other materials will be accessible through the calendar link on the blue navigation bar at http://www.epa.gov/casac/.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit comments for a Federal advisory committee to consider as it develops advice for EPA. Input from the public to the CASAC will have the most impact if it provides specific scientific or technical information or analysis for CASAC panels to consider or if it relates to the clarity or accuracy of the technical information. Members of the public should send their comments directly to the Designated Federal Officer for the relevant advisory committee. Oral Statements: To be placed on the public speaker list for the teleconference, interested parties should notify Dr. Stallworth, DFO, by e-mail no later than July 1, 2011. Individuals making oral statements will be limited to three minutes per speaker. Written Statements: Written statements for the meeting should be received in the SAB Staff Office by July 1, 2011 so that the information may be made available to the Panel for its consideration prior to this meeting. Written statements should be supplied to the DFO via e-mail (acceptable file format: Adobe Acrobat PDF, MS Word, WordPerfect, MS PowerPoint, or Rich Text files in IBM-PC/Windows 98/2000/XP format). It is the SAB Staff Office general policy to post written comments on the Web page for the advisory meeting or teleconference. Submitters are requested to provide an unsigned version of each document because the SAB Staff Office does not publish documents with signatures on its Web sites. Members of the public should be aware that their personal contact information, if included in any written comments, may be posted to the CASAC Web site. Copyrighted materials will not be posted without explicit permission of the copyright holder.

Accessibility: For information on access or services for individuals with disabilities, please contact Dr. Stallworth at the phone number or e-mail address noted above, preferably at least ten days prior to the teleconference, to give EPA as much time as possible to process your request.

Dated: May 26, 2011.
Anthony Maciorowski,
Deputy Director, EPA Science Advisory Board Staff Office.

[FR Doc. 2011-13843 Filed 6-2-11; 8:45 am]

BILLING CODE 6560-50-P